DEPARTMENT OF AGRICULTURE

Forest Service

I-90 Wilderness Study for the Wenatchee National Forest, Kittitas County, WA

AGENCY: Forest Service, USDA.

ACTION: Notice of Intent to Prepare a Legislative Environmental Impact Statement.

SUMMARY: Title VI of the Omnibus Consolidated and Emergency Supplemental Appropriations Act for Fiscal Year 1999 (also known as the Interstate 90 Land Exchange Act) directed the Secretary of Agriculture to review an area of land comprising approximately 15,000 acres, as generally depicted on an October 1998 map entitled “Alphine Lakes Wilderness Study Area”, for its suitability for preservation as wilderness. This study is to be completed no later than three years after the date of enactment of the Act. As directed by section 610 of the Interstate 90 Land Exchange Act, the Forest Service is undertaking the I-90 Wilderness Study in accordance with the process outlined in 40 CFR 1506.8. This process includes development of a legislative environmental impact statement (EIS) to provide a basis for the Secretary's recommendations as to suitability of specific lands for wilderness designation by Congress. This is a non-ground disturbing action that may result in a land management allocation change and Wenatchee National Forest Plan amendment. The agency invites written comments on the scope of this project. In addition, the agency gives notice of this analysis so that interested and affected people are aware of how they may participate and contribute to the final decision.

ADDRESSES: Submit written comments and suggestions to the Cle Elum Ranger District, Attn: Floyd Rogalski, Project Manager, 803 West 2nd Street, Cle Elum, WA 98922.

FOR FURTHER INFORMATION CONTACT: Floyd Rogalski, Project Manager, Cle Elum Ranger District 803 West 2nd Street, Cle Elum, WA 98922, (509) 674-4411.

SUPPLEMENTARY INFORMATION: The Omnibus Consolidated and Emergency Supplemental Appropriations Act for Fiscal Year 1999 (Pub. L. 105-277, 122 Stat. 2681) included special Title VI legislation known as the Interstate 90 Land Exchange Act of 1998. Section 610 of this act provides that:

In furtherance of the purposes of the Wilderness Act, if the land exchange directed by this Act is consummated, the area of land comprising approximately 15,000 acres, as generally depicted on a map entitled “Alpine Lakes Wilderness Study Area,” dated October 1998, shall be reviewed by the Secretary of Agriculture as to its suitability for preservation as wilderness. The Secretary shall submit a report and findings to the President, and the President shall submit his recommendation to the United States House of Representatives and United States Senate no later than three years after the date of enactment of this Act.

As a result of the passage of this Act, the Forest Service is undertaking the preparation of a legislative EIS to support the recommendation to be made to Congress in accordance with 40 CFR 1506.8. Enactment of the I-90 Exchange Act occurred with the exchange of deeds between the Forest Service and their partners in the exchange, Plum Creek Timber Company, L.P. on December 28, 1999. Accordingly, the EIS and subsequent wilderness recommendations must be presented to Congress no later than December 28, 2002.

The area subject to this study is comprised of Forest Service System lands adjacent to the existing Alpine Lakes Wilderness boundary north of the I-90 corridor on the Cle Elum Ranger District. The major issues that have been identified to date include: the impacts on the mineral potential of the lands in the study area; the impacts to existing recreation uses and to existing special use permittees; identification of those lands having the characteristics that would make them valuable as designated wilderness; and the nature and effect of the management restrictions or opportunities that would exist with respect to any lands allocated as wilderness. Based on these and other issues, a range of alternatives will be developed to serve as the basis for the recommendation to be made to Congress.

Public participation will be especially important at several points during the analysis. The Forest Service will be seeking information, comments, and assistance from Federal, State, Tribe, and local agencies, and other individuals or organizations who may be interested in or affected by the proposed actions. This information will be used in preparation of the draft legislative EIS. Public open houses to discuss this study are scheduled from 4 to 8 p.m. at the following locations: Monday, May 7, 2001, Snoqualmie Ranger District, 42404 SE North Bend Way, North Bend, Washington; Tuesday, May 8, 2001, Summit Inn, 603 State Route 906, Snoqualmie Pass, Washington; and Thursday, May 10, 2001, Hal Holms Community Center, 201 N. Ruby, Ellensburg, Washington.

The draft legislative EIS is expected to be filed with the Environmental Protection Agency (EPA) and is to be available for public review by October 2001. The comment period on the draft legislative EIS will be 60 days from the date the EPA publishes the notice of availability in the Federal Register.

The Forest Service believes, at this early stage, it is important to give reviewers notice of several court ruling related to public participation in the environmental review process. First, reviewers of a draft legislative EIS must structure their participation in the environmental review of the proposal so that it is meaningful and alerts an agency to the reviewer's position and contentions. Vermont Yankee Nuclear Power Cor. v. NRDC, 435 U.S. 519, 553 (1978). Also, environmental objections that could be raised at the draft legislative EIS stage but that are not raised until after completion of the final legislative EIS may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 60 day comment period so that substantive comments and objections are made available to the Forest Service at a time when it can meaningfully consider them and respond to them in the final legislative EIS.

To assist the Forest Service is identifying and considering issues and concerns on the proposed action, comments on the draft legislative EIS should be as specific as possible. It is also helpful if comments refer to specific pages or chapters of the draft statement. Comments may also address the adequacy of the draft legislative EIS or the merits of the alternatives formulated and discussed in the statement. Reviewers may wish to refer to the Council on Environmental Quality Regulations for implementing the procedural provisions of the National Environmental Policy Act at 40 CFR 1503.3 in addressing these points.

The final legislative EIS is schedule to be completed by October 2002. The Forest Service will respond to the comments received during the comment period in the final legislative EIS. These comments will be forwarded to the Congressional committee with jurisdiction over the proposal along with the final legislative EIS and study report.

Dated: April 24, 2001.
Sonny J. O'Neal,
Forest Supervisor.

[FR Doc. 01-11214 Filed 5-3-01; 8:45 am]

BILLING CODE 3410-11-M